DEPARTMENT OF HOMELAND SECURITY

Federal Emergency Management Agency

44 CFR Part 67

[Docket ID FEMA-2012-0003; Internal Agency Docket No. FEMA-B-1213]

Proposed Flood Elevation Determinations

AGENCY: Federal Emergency Management Agency, DHS.

ACTION: Proposed rule; correction.

SUMMARY: On August 25, 2011, FEMA published in the Federal Register a proposed rule that contained an erroneous table. On October 4, 2011, a correction to that original notice was published in the Federal Register. This notice provides corrections to that initial table and the correction notice, to be used in lieu of the information published at 76 FR 53082 and at 76 FR 61295. The table provided here represents the flooding sources, location of referenced elevations, effective and modified elevations, and communities affected for Smith County, Texas, and Incorporated Areas. Specifically, it addresses the flooding sources: Black Fork Creek, Black Fork Creek Tributary BF-1, Black Fork Creek Tributary BF-M-1, Black Fork Creek Tributary D, Black Fork Creek Tributary D-1, Black Fork Creek Tributary D-2, Black Fork Creek Tributary D-3, Butler Creek, Gilley Creek, Gilley Creek Tributary G-1, Harris Creek, Henshaw Creek, Indian Creek, Ray Creek, Shackleford Creek, West Mud Creek, West Mud Creek Tributary 11, West Mud Creek Tributary B, West Mud Creek Tributary M-1, West Mud Creek Tributary M-2, West Mud Creek Tributary M-A, West Mud Creek Tributary M-A.1, West Mud Creek Tributary M-A.2, West Mud Creek Tributary M-C, West Mud Creek Tributary M-C.1, West Mud Creek Tributary M-C.2, Wiggins Creek, and Willow Creek.

DATES: Comments are to be submitted on or before November 20, 2012.

ADDRESSES: You may submit comments, identified by Docket No. FEMA-B-1213, to Luis Rodriguez, Chief, Engineering Management Branch, Federal Insurance and Mitigation Administration, Federal Emergency Management Agency, 500 C Street SW., Washington, DC 20472, (202) 646-4064 or (email) luis.rodriguez3@fema.dhs.gov.

FOR FURTHER INFORMATION CONTACT: Luis Rodriguez, Chief, Engineering Management Branch, Federal Insurance and Mitigation Administration, Federal Emergency Management Agency, 500 C Street SW., Washington, DC 20472, (202) 646-4064 or (email) luis.rodriguez3@fema.dhs.gov.

SUPPLEMENTARY INFORMATION: The Federal Emergency Management Agency (FEMA) publishes proposed determinations of Base (1% annual-chance) Flood Elevations (BFEs) and modified BFEs for communities participating in the National Flood Insurance Program (NFIP), in accordance with section 110 of the Flood Disaster Protection Act of 1973, 42 U.S.C. 4104, and 44 CFR 67.4(a).

These proposed BFEs and modified BFEs, together with the floodplain management criteria required by 44 CFR 60.3, are minimum requirements. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Correction

In the proposed rule published at 76 FR 53082, in the August 25, 2011 issue of the Federal Register, and in the correction notice published at 76 FR 61295, in the October 4, 2011 issue, FEMA published a table and its corrections under the authority of 44 CFR 67.4. The table, entitled “Smith County, Texas, and Incorporated Areas” addressed the flooding sources: Black Fork Creek, Black Fork Creek Tributary BF-1, Black Fork Creek Tributary BF-M-1, Black Fork Creek Tributary D, Black Fork Creek Tributary D-1, Black Fork Creek Tributary D-2, Black Fork Creek Tributary D-3, Black Fork Creek Tributary D-4, Black Fork Creek Tributary D-5, Butler Creek, Gilley Creek, Gilley Creek Tributary G-1, Harris Creek, Henshaw Creek, Indian Creek, Ray Creek, Shackleford Creek, West Mud Creek, West Mud Creek Tributary 11, West Mud Creek Tributary B, West Mud Creek Tributary M-1, West Mud Creek Tributary M-2, West Mud Creek Tributary M-A, West Mud Creek Tributary M-A.1, West Mud Creek Tributary M-A.2, West Mud Creek Tributary M-C, West Mud Creek Tributary M-C.1, West Mud Creek Tributary M-C.2, Wiggins Creek, and Willow Creek. That table contained inaccurate information as to the location of referenced elevation, effective and modified elevation in feet, and/or communities affected for the flooding sources: Black Fork Creek Tributary D, Black Fork Creek Tributary D-1, Black Fork Creek Tributary D-2, Black Fork Creek Tributary D-3, Harris Creek, Indian Creek, Shackleford Creek, West Mud Creek, West Mud Creek Tributary 11, West Mud Creek Tributary B, West Mud Creek Tributary M-1, West Mud Creek Tributary M-A.1, West Mud Creek Tributary M-A.2, West Mud Creek Tributary M-C, West Mud Creek Tributary M-C.1, West Mud Creek Tributary M-C.2, and Willow Creek. The table also contained two flooding sources, Black Fork Creek Tributary D-4 and Black Fork Creek Tributary D-5, which were removed from the original publication. In this notice, FEMA is publishing a table containing the accurate information, to address these prior errors. The information provided below should be used in lieu of that previously published.

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Smith County, Texas, and Incorporated Areas
Black Fork Creek | Approximately 0.43 mile upstream of the Prairie Creek West confluence | None | +380 | City of Tyler, Unincorporated Areas of Smith County.
| Approximately 0.71 mile upstream of East 5th Street | +530 | +531
Black Fork Creek Tributary BF-1 | At the Black Fork Creek confluence | +434 | +436 | City of Tyler, Unincorporated Areas of Smith County.
| Approximately 1.2 miles upstream of Loop 323 | None | +476
Black Fork Creek Tributary BF-M-1 | At the Black Fork Creek confluence | +495 | +496 | City of Tyler.
| Approximately 1,475 feet upstream of Devine Street | None | +523
Black Fork Creek Tributary D | At the Black Fork Creek confluence | +468 | +469 | City of Tyler.
| Approximately 1,180 feet upstream of East Front Street | +509 | +508
Black Fork Creek Tributary D-1 | At the Black Fork Creek Tributary D confluence | +477 | +473 | City of Tyler.
| Approximately 1,770 feet upstream of the Black Fork Creek Tributary D confluence | +477 | +479
Black Fork Creek Tributary D-2 | At the Black Fork Creek Tributary D confluence | +488 | +487 | City of Tyler.
| Approximately 1,053 feet upstream of Townsend Avenue | +488 | +490
Black Fork Creek Tributary D-3 | At the Black Fork Creek Tributary D confluence | +492 | +488 | City of Tyler.
| At Elm Street | +493 | +491
Butler Creek | Approximately 340 feet upstream of FM 2661 | None | +361 | City of Tyler, Unincorporated Areas of Smith County.
| Approximately 640 feet upstream of State Route 155 | None | +457
Gilley Creek | Approximately 310 feet downstream of FM 848 | None | +379 | City of Tyler, Unincorporated Areas of Smith County.
| Approximately 150 feet upstream of University Boulevard | None | +474
Gilley Creek Tributary G-1 | At the Gilley Creek confluence | None | +426 | City of Tyler, Unincorporated Areas of Smith County.
| Approximately 1.14 miles upstream of County Road 2120 | None | +478
Harris Creek | Approximately 300 feet upstream of the Ray Creek confluence | None | +329 | Unincorporated Areas of Smith County.
| Approximately 2.16 miles upstream of FM 850 | None | +463
Henshaw Creek | At the West Mud Creek confluence | +381 | +383 | Unincorporated Areas of Smith County.
| Approximately 0.71 mile upstream of County Road 165 | +475 | +477
Indian Creek | Approximately 490 feet upstream of the Lake Palestine confluence | None | +349 | City of Tyler, Unincorporated Areas of Smith County.
| Approximately 1,950 feet upstream of Loop 323 | None | +473
Ray Creek | Approximately 0.37 mile upstream of the Harris Creek confluence | None | +332 | Unincorporated Areas of Smith County.
| Approximately 525 feet upstream of Old Gladwater Highway | None | +436
Shackleford Creek | At the West Mud Creek confluence | +380 | +383 | City of Tyler, Unincorporated Areas of Smith County.
| Approximately 620 feet upstream of Paluxy Drive (FM 756) | None | +481
West Mud Creek | Approximately 200 feet upstream of FM 344 East | +360 | +361 | City of Tyler, Unincorporated Areas of Smith County.
| Approximately 1,300 feet upstream of Easy Street | +495 | +496
West Mud Creek Tributary 11 | At the West Mud Creek confluence | +417 | +419 | City of Tyler.
| Approximately 400 feet upstream of Holly Creek Drive | None | +462
West Mud Creek Tributary B | Approximately 125 feet upstream of the West Mud Creek confluence | +468 | +467 | City of Tyler.
| Approximately 125 feet upstream of Paluxy Drive | +505 | +504
West Mud Creek Tributary M-1 | At the West Mud Creek Tributary M-A confluence | +442 | +444 | City of Tyler.
| Approximately 1,440 feet upstream of Cross Creek Circle | +487 | +485
West Mud Creek Tributary M-2 | Approximately 425 feet upstream of the West Mud Creek confluence | +464 | +463 | City of Tyler.
| Approximately 1,510 feet upstream of Barbee Drive | +481 | +469
West Mud Creek Tributary M-A | Approximately 200 feet upstream of the West Mud Creek confluence | +445 | +444 | City of Tyler.
| Approximately 80 feet upstream of Woodland Hills Drive | None | +509
West Mud Creek Tributary M-A.1 | At the West Mud Creek Tributary M-A confluence | +472 | +471 | City of Tyler.
| Approximately 680 feet upstream of Rice Road | +487 | +485
West Mud Creek Tributary M-A.2 | At the West Mud Creek Tributary M-A confluence | None | +487 | City of Tyler.
| Approximately 830 feet upstream of the West Mud Creek Tributary M-A confluence | None | +493
West Mud Creek Tributary M-C | Approximately 450 feet upstream of the West Mud Creek confluence | +478 | +477 | City of Tyler.
| Approximately 50 feet upstream of Old Jacksonville Highway | None | +530
West Mud Creek Tributary M-C.1 | Approximately 160 feet upstream of the West Mud Creek Tributary M-C confluence | +489 | +488 | City of Tyler.
| Approximately 1,010 feet upstream of New Copeland Road | +490 | +491
West Mud Creek Tributary M-C.2 | At the West Mud Creek Tributary M-C confluence | None | +502 | City of Tyler.
| Approximately 1,000 feet upstream of Old Bullard Road | None | +511
Wiggins Creek | At the downstream side of the railroad | None | +327 | Unincorporated Areas of Smith County.
| Approximately 0.83 mile upstream of Harris Creek Church Road | None | +373
Willow Creek | At the Black Fork Creek confluence | +419 | +423 | City of Tyler, Unincorporated Areas of Smith County.
| Approximately 1.48 miles upstream of Loop 323 North-Northwest | +482 | +480
* National Geodetic Vertical Datum. + North American Vertical Datum. # Depth in feet above ground. ‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
City of Tyler
Maps are available for inspection at the Development Services Office, 423 West Ferguson Street, Tyler, TX 75702.
Unincorporated Areas of Smith County
Maps are available for inspection at the Smith County Courthouse, 100 North Broadway Avenue, Tyler, TX 75702.

(Catalog of Federal Domestic Assistance No. 97.022, “Flood Insurance.”)

Dated: August 8, 2012.
Sandra K. Knight,
Deputy Associate Administrator for Mitigation, Department of Homeland Security, Federal Emergency Management Agency.

[FR Doc. 2012-20646 Filed 8-21-12; 8:45 am]

BILLING CODE 9110-12-P